DEPARTMENT OF COMMERCE

National Oceanic and Atmospheric Administration

[I.D. 021700D]

Pacific Fishery Management Council; Public Meeting

AGENCY: National Marine Fisheries Service (NMFS), National Oceanic and Atmospheric Administration (NOAA), Commerce.

ACTION: Notice of public meetings.

SUMMARY: The Pacific Fishery Management Council's (Council) Ad-Hoc Groundfish Strategic Plan Development Committee will hold a telephone conference and a work session which are open to the public.

DATES: The telephone conference will be held March 21, 2000, from 10 a.m. until noon. The work session will be held Wednesday, June 14 at 10 a.m. and may go into the evening until business for the day is completed. The work session will reconvene at 8 a.m. on Thursday, June 15 and continue throughout the day until business for the day is completed.

ADDRESSES: Five listening stations for the March 21 telephone conference will be available. See SUPPLEMENTARY INFORMATION for specific locations for the telephone conference.

Council address: Pacific Fishery Management Council, 2130 SW Fifth Avenue, Suite 224, Portland, OR 97201.

FOR FURTHER INFORMATION CONTACT: Mr. Jim Glock, telephone: (503) 326-6352.

SUPPLEMENTARY INFORMATION: The purpose of the telephone conference is to review data prepared by the Council's Groundfish Management Team, to develop a public comment process for the draft strategic plan document, and to prepare for the upcoming March Council meeting. The purpose of the June working session is complete a final review of the draft strategic plan document before it is presented to the Council at its June 26-30 meeting.

The listening stations are located at:

1. Washington Department of Fish and Wildlife, 1111 Washington Street, SE, Room 635, Olympia, WA 98501

Contact: Mr. Phil Anderson; (503) 902-2720

2. Oregon Department of Fish and Wildlife, 2040 SE Marine Science Drive, Newport, OR 97365

Contact: Mr. Neal Coenen; (541) 867-4741, Ext. 226

3. NMFS Northwest Region Office, Director's Conference Room, 7600 Sand Point Way NE, BIN C15700, Seattle, WA 98115

Contact: Mr. Bill Robinson; (206) 526-6142

4. California Department of Fish and Game, 330 Golden Shore, Suite 50, Long Beach, CA 90802

Contact: Ms. Patty Wolf; (562) 590-4873

5. Pacific Fishery Management Council, 2130 SW Fifth Avenue, Suite 224, Portland, OR 97201

Contact: Mr. Jim Glock; (503) 326-6352 Ext. 17

The June work session will be held at the Pacific States Marine Fisheries Commission, Large Conference Room, 45 SE 82nd Drive, Suite 100, Gladstone, OR; telephone: (503) 650-5400.

Although non-emergency issues not contained in this agenda may come before this Council for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Mr. John Rhoton at (503) 326-6352 at least 5 days prior to the meeting date.

Dated: February 22, 2000.
Bruce C. Morehead,
Acting Director, Office of Sustainable Fisheries, National Marine Fisheries Service.

[FR Doc. 00-4774 Filed 2-28-00; 8:45 am]

BILLING CODE 3510-22-F